DEPARTMENT OF HEALTH AND HUMAN SERVICES

National Institutes of Health

Office of Extramural Research; Proposed Collection; Comment Request NIH Customer/Partner Satisfaction Survey of Modifications in Procedures for Application and Award of Research Project Grants

SUMMARY: In compliance with the requirement of section 3506(c)(2)(A) of the Paperwork Reduction Act of 1995, for opportunity for public comment on proposed data collection projects, the Office of Extramural Research will publish periodic summaries of proposed projects to be submitted to the Office of Management and Budget (OMB) for review and approval.

Proposed Collection

Title: NIH Customer/Partner Satisfaction Survey of Modifications in Procedures for Application and Award of Research Project Grants. Type of Information Collection Request: New Request. Need and Use of Information Collection: The Customer/Partner Satisfaction Surveys focus on the respondent's perceptions, preferences, and related opinions. The information collected in the surveys will be used by the Office of Extramural Research to evaluate procedures for the application and award of research project grants. A single study under the clearance would be a sequential review of the Modular Application/Grant process. At the outset of its implementation, the community was advised that the process would focus the efforts of investigators, institutional officials, and National Institutes of Health (NIH) staff on the science of the application and reduce administrative burden. The Modular Grant Application Process has been in effect for two years. The NIH now believes it is an appropriate time to determine how these objectives have been met. Frequency of Response: On occasion. Affected Public: Institutional Officials, Principal Investigators (PIs), Peer Reviewers, Program and Grants Management Staff, Institute Budget Officers. The annual reporting burden is as follows: Estimated Number of Respondents: 1,000; Estimated Number of Responses per Respondent: 1; Average Burden Hours Per Response: .334, and Estimated Total Burden Hours Requested: 334. Each year we may repeat the same survey with different respondents. There are no Capital Costs, Operating Costs and/or Maintenance Costs to report.

Request for Comments

Written comments/and or suggestions from the public and affected agencies should address one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Anthony Demsey, OD, NIH, Building 1, Room 154, Bethesda, MD 20892, or call the non-toll-free number (301) 496-5127, or e-mail your request, including your address to: Demseya@OD.NIH.GOV.

Comment Due Date

Comments regarding this information collection are best assured of having their full effect if received within 60-days of the date of this publication.

Dated: May 16, 2002.
Regina H. White,
Director, OPERA/OER/OD/NIH.

[FR Doc. 02-13015 Filed 5-22-02; 8:45 am]

BILLING CODE 4140-01-M